GENERAL SERVICES ADMINISTRATION

Premium Fuel Purchases for Government Owned and Leased Vehicles Due to Market Shortages in Parts of California Affected by Wildfires

AGENCY: Office of Governmentwide Policy, General Services Administration (GSA).

ACTION: Notice of Federal Management Regulation (FMR) Bulletin B-16.

SUMMARY: The General Services Administration (GSA) has issued Bulletin B-16 which provides a deviation for executive agencies to purchase premium fuel for Government owned and leased vehicles when lower grade fuels are not available due to market shortages in parts of California affected by wildfires. FMR Bulletin B-16 became effective on October 24, 2007 and will remain effective until January 24, 2008, unless extended or rescinded by GSA. This bulletin and all FMR bulletins are located at gsa.gov/bulletin.

FOR FURTHER INFORMATION CONTACT: For clarification of content, contact Janet Dobbs, Office of Governmentwide Policy, General Services Administration, Washington, DC 20405, telephone (202) 208-6601, or by email at janet.dobbs@gsa.gov.

Dated: October 25, 2007.
Russ Pentz,
Assistant Deputy Associate Administrator.

[FR Doc. E7-21418 Filed 10-30-07; 8:45 am]

BILLING CODE 6820-14-S